DEPARTMENT OF TRANSPORTATION

Federal Aviation Administration

First Meeting, Special Committee 209, Air Traffic Control Radar Beacon Systems (ATCRBS)/Mode Select (Mode S) Transponder

AGENCY: Federal Aviation Administration (FAA), DOT.

ACTION: Notice of RTCA Special Committee 209, ATCRBS/Mode S Transponder.

SUMMARY: The FAA is issuing this notice to advise the public of a first meeting of RTCA Special Committee 209, ATCRBS/Mode S Transponder.

DATES: The meeting will be held on February 16, 2005, from 9 a.m.-5 p.m., and February 17, 2006, from 9 a.m.-12 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 209 meeting. Special Committee 209 will address the design, performance, installation and operational issues associated with ATCRBS/Mode S Airborne Equipment. Special Committee 209 Chairmen are Thomas Pagano, Federal Aviation Administration and Robert Saffell Rockwell Collins, Inc. The agenda will include:

February 16-17:

• Opening Plenary Session (Welcome, Introductions, and Administrative Remarks, Agenda Overview).

• RTCA Overview.

• Previous Mode S Transponder (Committee History).

• Current Committee Scope, Terms of Reference Overview.

○ Presentation, Discussion, Recommendations.

• Organization of Work, Assignment of Tasks.

○ Presentation, Discussion, Recommendations.

○ Assignment of Responsibilities.

• Closing Plenary Session (Other Business, Establish Agenda, Date and Place for Next Meeting, Adjourn).

Attendance is open to the interested public but limited to space availability. Pre-Registration for this meeting is not required for attendance but is desired and can be done through the RTCA secretariat. With the approval of the chairman, members of the public may present oral statements at the meeting. Persons wishing to present statements or obtain information should contact the person listed in the FOR FURTHER INFORMATION CONTACT section. Members of the public may present a written statement to the committee at any time.

Issued in Washington, DC, on January 17, 2006.
Natalie Ogletree,
RTCA Advisory Committee.

[FR Doc. 06-860 Filed 1-30-06; 8:45 am]

BILLING CODE 4910-13-M